DEPARTMENT OF LABOR

Employee Benefits Security Administration

Agency Information Collection Activities; Notification of Public

AGENCY: Employee Benefits Security Administration (EBSA), Department of Labor.

ACTION: Discontinuance of an Information Collection.

SUMMARY: The Department of Labor (the Department), in accordance with the Paperwork Reduction Act, is providing the general public and Federal agencies with notice of the discontinuance of a collection of information under control number 1210-0114, “Plan Assets”—Insurance Company General Accounts.

DATES: Existing collection of information will be discontinued if the final rule at 90 FR 28009 becomes effective on September 2, 2025.

SUPPLEMENTARY INFORMATION:

I. Current Actions

The Department published a Direct Final Rule (final rule) on July 1, 2025 (90 FR 28009) which would remove 29 CFR 2550.401c-1 from the Code of Federal Regulations. The final rule is effective September 2, 2025, unless significant adverse comments are received by July 31, 2025. When effective, the final rule will remove regulatory provisions that contain collection-of-information requirements that have been reviewed and approved by the Office of Management and Budget (OMB) under the Paperwork Reduction Act of 1995 (PRA) (44 U.S.C. 3501 et seq.) and OMB's regulations at 5 CFR part 1320. The existing collection-of-information requirements were approved under OMB Control Number 1210-0114. OMB last renewed its approval of the requirements on October 22, 2024.

The regulation being removed, 29 CFR 2550.401c-1, imposes specific requirements on insurers that are parties to Transition Policies in order to ensure that the fiduciaries acting on behalf of plans have adequate information and understanding of how the Transition Policies work. The information collection requirement contained within 29 CFR 2550.401c-1 requires that an insurer that issues and maintains a Transition Policy to or for the benefit of an employee benefit plan must disclose to the plan fiduciary, initially upon issuance of the policy and on an annual basis, to the extent that the policy is not a guaranteed benefit policy: (1) the methods by which income and expenses of the insurer's general account are allocated to the policy, the actual annual return to the plan, and other pertinent information; (2) the extent to which alternative arrangements supported by the assets of the insurer's separate accounts are available; (3) any rights under the policy to transfer funds to a separate account and the terms governing such right; and (4) the extent to which support by assets of the insurer's separate accounts might pose differing risks to the plan.

When 29 CFR 2550.401c-1 is removed, the underlying requirements for the information collections would no longer exist. In EBSA's most recent supporting statement for the information collection requirements contained in 29 CFR 2550.401c-1, subject to uncertainty, the estimated burden on employers is 112,498 hours, and a cost burden of $960. When effective, the final rule would therefore remove the burden and associated costs in those amounts.

Signed at Washington, DC, this 14th day of July 2025.
Janet Dhillon,
Acting Assistant Secretary, Employee Benefits Security Administration, U.S. Department of Labor.

[FR Doc. 2025-13657 Filed 7-18-25; 8:45 am]

BILLING CODE 4510-29-P